DEPARTMENT OF ENERGY

Federal Energy Regulatory Commission

[Project No. 12533-001]

Christopher James Phil; Notice of Surrender of Preliminary Permit

October 12, 2005.

Take notice that Christopher James Phil, permittee for the proposed May Creek Project, has requested that its preliminary permit be terminated. The permit was issued on March 8, 2005, and would have expired on February 29, 2008.¹ The project would have been located on May Creek and Lake Isabel in Snohomish County, Washington.

¹ 110 FERC ¶ 62,227 (2005).

The permittee filed the request on September 26, 2005, and the preliminary permit for Project No. 12533 shall remain in effect through the thirtieth day after issuance of this notice unless that day is a Saturday, Sunday, part-day holiday that affects the Commission, or legal holiday as described in section 18 CFR 385.2007, in which case the effective date is the first business day following that day. New applications involving this project site, to the extent provided for under 18 CFR Part 4, may be filed on the next business day.

Magalie R. Salas,
Secretary.

[FR Doc. E5-5763 Filed 10-18-05; 8:45 am]

BILLING CODE 6717-01-P